DEPARTMENT OF DEFENSE

Department of the Army

[No. USA-2006-0038]

Proposed Collection; Comment Request

AGENCY: Office of the Administrative Assistant to the Secretary of the Army, (OAA-RPA), DoD.

ACTION: Notice.

In compliance with Section 3506(c)(2)(A) of the Paperwork Reduction Act of 1995, the Department of the Army announces the proposed extension of a public information collection and seeks public comment on the provisions thereof. Comments are invited on: (a) Whether the proposed collection of information is necessary for the proper performance of the functions of the agency, including whether the information shall have practical utility: (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 26, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Assistant Secretary of the Army (Manpower & Reserve Affairs)/G-1, ATTN: SAMR-FMMR, (John Anderson), 111 Army Pentagon, Washington, DC 20310-0111, or call the Department of the Army Reports Clearance Officer at (703) 428-6440.

Title and OMB Number: The Contractor Manpower Reporting Study; OMB Control Number 0702-0120.

Needs and Uses: Section 345 of the National Defense Authorization Act for Fiscal Year 2002 (Pub. L. 107-194) requires that the Secretary of the Army submit to Congress a report describing the use, during the previous fiscal year, of non-Federal entities providing services to the Department of the Army. The program will greatly enhance the ability of the Army to identify and track its contractor workforce.

Modern systems do not have contractor manpower data that is collected by the Contractor Manpower Reporting System, i.e., estimated direct labor hours, estimated direct labor dollars, and organization supported.

Affected Public: Business or other for profit.

Annual Burden Hours: 344.

Number of Respondents: 4,149.

Responses Per Respondent: 1.

Average Burden Per Response: 5 minutes.

Frequency: Annually.

supplementary information: Existing financial and procurement systems have obligation amounts of an unknown mix, and the Department of Army is not able to trace the funding of the organization supported. The study will use a streamlined, user-friendly and secure Web site to obtain contractor workforce information.

Dated: October 23, 2006.
Patricia L. Toppings,
Alternate OSD Federal Register Liaison Officer, Department of Defense.

[FR Doc. 06-9395 Filed 11-24-06; 8:45 am]

BILLING CODE 5001-06-M